DEPARTMENT OF ENERGY

Federal Energy Regulatory Commission

[Docket No. CP02-27-000]

Florida Gas Transmission Company; Notice of Certificate Application

November 23, 2001.

Take notice that on November 15, 2001, Florida Gas Transmission Company (Florida Gas), 1400 Smith Street, Houston, Texas 77002, filed an application for a certificate of public convenience and necessity pursuant to Section 7 of the Natural Gas Act (NGA), as amended, and the Federal Energy Regulatory Commission's (the Commission) Rules and Regulations thereunder. Florida Gas requests authorization to: 1) construct, install, own, operate and maintain certain facilities to provide up to 85,356 dekatherms per day (Dth/d) of average annual incremental firm natural gas transportation service; and, 2) roll-in the costs associated with the proposed expansion of its facilities with Florida Gas' Incremental System under Rate Schedule FTS-2, all as more fully set forth in the application, which is on file with the Commission, and open for public inspection. This filing may be viewed on the web at http://www.ferc.gov using the “RIMS” link, select “Docket #” and follow the instructions (call 202-208-2222 for assistance). Following its open seasons, Florida Gas contracted for firm transportation service with four shippers (Shippers): Orlando Utilities Commission (OUC); Reliant Energy Services, Inc.; and, two LDC's, South Florida Natural Gas, and, City of Leesburg.

The facilities will consist of: (i) Mainline Expansions, which involve improvements along Florida Gas's existing pipeline in Alabama, Florida, Louisiana, and Mississippi including (a) approximately 5.3 miles of 36-inch diameter pipeline loops (in Baldwin and Mobile Counties, Alabama), (b) approximately 20.1 miles of 30-inch diameter pipeline loops (in Bradford, Clay, Suwannee, and Washington Counties, Florida), (c) compression increases totaling 18,600 horsepower at ten locations (in Mobile County, Alabama; Citrus, Gadsden, Gilchrist, Orange, Santa Rosa, Taylor, and Washington Counties, Florida; Washington Parish, Louisiana; and Perry County, Mississippi), and (d) associated mainline valves, piping, and appurtenant pipeline facilities; and (ii) Other Expansions, which include (a) approximately 1.3 miles of 6-inch diameter pipeline lateral loop in Lake County, Florida; (b) approximately 1.4 miles of 16-inch lateral loop extension in Brevard County, Florida; and, (c) approximately 5.2 miles of 16-inch pipeline lateral in Orange County, Florida from Florida Gas' existing 26-inch pipeline (Stanton Lateral), and (d) associated valves and appurtenant pipeline facilities. Florida Gas will construct one new meter station for service to OUC from the Stanton Lateral pursuant to its Blanket Certificate issued in Docket No. CP82-553, 21 FERC ¶ 62,235.

Florida Gas requests that the Commission issue a preliminary determination on non-environmental issues by March 1, 2002 and a final determination on all certificate issues on or before September 1, 2002 so: (1) construction can begin by December 1, 2002; (2) deliveries can commence to Shippers by June 1, 2003; and, (3) the remaining facilities, including those essential to OUC's Plant Stanton's commercial operation, can be operational by November 1, 2003. The cost of the facilities is estimated to be approximately $105.4 million. Incremental firm transportation service of up to 121,000 Dth/d summer peak volumes (85,356 Dth/d average annual) will be rendered to the Shippers pursuant to Florida Gas' Rate Schedule FTS-2. The Shippers will pay incremental rates to compensate Florida Gas for the costs of the Phase VI Expansion Project facilities.

Questions regarding this filing should be directed to Mr. Stephen T. Veatch, Director of Certificates and Regulatory Reporting, Florida Gas Transmission Co., 1400 Smith Street, Suite 3997, P.O. Box 1188, Houston, TX 77251-1188 or call (713) 853-6549.

There are two ways to become involved in the Commission's review of this project. First, any person wishing to obtain legal status by becoming a party to the proceedings for this project should, on or before December 13, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

If the Commission decides to set the application for a formal hearing before an Administrative Law Judge, the Commission will issue another notice describing that process. At the end of the Commission's review process, a final Commission order approving or denying a certificate will be issued.

Comments, protests and interventions may be filed electronically via the Internet in lieu of paper. See, 18 CFR 385.2001(a)(1)(iii) and the instructions on the Commission's web site under the “e-Filing” link.

Linwood A. Watson, Jr.,
Acting Secretary.

[FR Doc. 01-29619 Filed 11-28-01; 8:45 am]

BILLING CODE 6717-01-P